DEPARTMENT OF TRANSPORTATION

Federal Railroad Administration

Proposed Agency Information Collection Activities; Comment Request

AGENCY: Federal Railroad Administration, DOT.

ACTION: Notice and request for comments.

SUMMARY: In compliance with the Paperwork Reduction Act of 1995 (44 U.S.C. 3501 et seq.), this notice announces that the Information Collection Requirements (ICRs) abstracted below have been forwarded to the Office of Management and Budget (OMB) for review and comment. Each ICR describes the nature of the information collection and its expected burden. The Federal Register notice with a 60-day comment period soliciting comments on the collection of information listed below was published on October 2, 2008 (See 73 FR 57404).

DATES: Comments must be submitted on or before January 9, 2009.

FOR FURTHER INFORMATION CONTACT: Mr. Robert Brogan, Office of Planning and Evaluation Division, RRS-21, Federal Railroad Administration, 1200 New Jersey Ave., SE., Mail Stop 25, Washington, DC 20590 (telephone: (202) 493-6292), or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On October 2, 2008, FRA published a 60-day notice in the Federal Register soliciting comment on ICRs that the agency was seeking OMB approval. 73 FR 57404. FRA received one letter in response to this notice.

The letter came from Mr. Freddie Simpson, President of the Brotherhood of Maintenance of Way Employes Division (BMWED). The BMWED is a labor organization representing approximately 35,000 railroad workers who build, maintain, inspect, and repair railroad tracks, bridges, and related railroad infrastructure throughout the United States. In his comments, Mr. Simpson noted the following:

BMWED is a charter member of the Rail Safety Advisory Committee (RSAC) and a voting member of the RSAC Railroad Bridge Working Group (RBWG). The RBWG is tasked by FRA to “report to the Federal Railroad Administration on the current state of Railroad bridge safety management, updating the findings and conclusions of the 1993 Summary Report of the FRA Railroad Bridge Safety Survey, including recommendations for further action.”

BMWED believes the information collection activities outlined in the OMB Control Number 2130—New are necessary for FRA and RBWG to properly execute its functions. BMWED also believes the information collection activities will have practical utility in assessing the current state of railroad bridge safety management and that the anticipated surveys and evaluations of selected railroad bridge management programs is vital to such assessment. Finally, BMWED believes FRA's estimates of the burden of such information collection activities are reasonable, sound, and minimally burdensome.

The information to be collected and weighting factors to be applied thereupon are presently being reviewed by the American Short Line and Regional Railroad Association (ASLRRA) Bridge Committee. This committee is composed of the chief bridge engineers from the seven Class I railroads and Amtrak, representatives of Class II regional and Class III shot line railroads, consulting engineers, and industry suppliers. FRA will consider the recommendations of the ASLRRA Bridge Committee in this regard.

Before OMB decides whether to approve this proposed collection of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The proposed requirements are being submitted for clearance by OMB as required by the PRA.

Title: Factors for Selection of Railroads for Evaluation of Bridge Management Practices.

OMB Control Number: 2130—New.

Type of Request: Regular approval of a proposed collection of information.

Affected Public: Railroads.

Form(s): FRA F 6180.129.

Abstract: The Federal Railroad Administration (FRA) has conducted a Railroad Bridge Safety Program at various levels of effort ever since the enactment of the Railroad Safety Act of 1970. FRA is authorized under that act to issue regulations addressing a wide variety of subjects regarding railroad safety, but FRA has found that bridge safety has been well served by a non-regulatory policy.

The resulting Statement of Agency Policy on the Safety of Railroad Bridges, published in the Federal Register in 2000, is based on the findings of a survey conducted by FRA in 1992 and 1993. That survey showed that a large majority of railroads were managing their bridges in a manner which promoted the immediate safety of those bridges. FRA therefore adopted that Bridge Safety Policy, which incorporates non-regulatory guidelines. The non-regulatory guidelines of the Bridge Safety Policy are promulgated as Appendix C of the Federal Track Safety Standards, Title 49 Code of Federal Regulations, Part 213.

Since the initial bridge management survey was completed, FRA has continued to conduct evaluations of the bridge management practices of the Nation's railroads. Regular, continuing contact has been in place between FRA and the larger railroads (Class I and major passenger carriers). However, the selection of smaller railroads (Class III short lines and smaller Class II regional railroads) has been on an ad hoc basis. FRA has based decisions to evaluate individual smaller railroads on recommendations from FRA regional staff, complaints from the public, and the small number of bridge-related train accidents.

The Government Accountability Office (GAO) in 2006 and 2007 conducted a study to evaluate the safety and serviceability of our Nation's railroad bridges and tunnels. GAO reported to the Congress on that study in August 2007. That report, “RAILROAD BRIDGES AND TUNNELS—Federal Role in Providing Safety Oversight and Freight Infrastructure Investment Could Be Better Targeted” includes the following recommendation:

To enhance the effectiveness of its bridge and tunnel safety oversight function, we recommend that the Secretary of Transportation direct the Administrator of the Federal Railroad Administration to devise a systematic, consistent, risk-based methodology for selecting railroads for its bridge safety surveys to ensure that it includes railroads that are at higher risk of not following the FRA's bridge safety guidelines and of having bridge and tunnel safety issues.

FRA agrees with that recommendation, and is implementing it.

A vital part of that methodology is the development of information on which to base the factors by which railroads will be selected for surveys and evaluations. The factors developed by FRA, in conjunction with the railroads themselves, include such statistics as the length of a railroad in miles, the number, types and total length of its bridges, its level of traffic, the presence of hazardous material traffic, the operation of passenger trains, and the railroad's record of train accidents. Several of those factors, particularly regarding the railroad's bridge population, are not found in data already held or collected by FRA.

An attempt to characterize the selection factors without incorporating that data on a railroad's bridge population would seriously compromise the accuracy and usefulness of the information. FRA has, therefore, determined that the effectiveness of its bridge safety program depends on this data, and has identified two options for collecting it. In one case, FRA inspectors could visit each railroad in turn, interview the managers of the railroad, and record the information presented. In the other case, FRA could request that each railroad provide its data to FRA in a convenient format.

FRA believes that the second option, self-reporting by the railroads, is more convenient for the responding universe, and that it represents the most efficient use of agency resources. Railroad managers will be able to gather the data on their own time schedules, within reason, and FRA would not have to devote employee time and travel expenses to visit the responding railroads.

FRA will use the data received in this project to rank individual railroads for scheduling bridge program evaluations by FRA's Bridge Safety Staff. The data will be analyzed against weighting factors, and railroads will be prioritized according to the resulting scores. The weighting factors are presently being reviewed by a committee of the American Short Line and Regional Railroad Association (ASLRRA). FRA will consider the recommendation of ASLRRA in this regard, and will make the weighting factors available to the respondent universe and the public as part of this project.

It should be noted that a high selection ranking of any railroad by FRA will not necessarily indicate that the railroad has a bridge safety problem. That determination, one way or the other, will only be made by FRA during its evaluation of that railroad's bridge management practices.

Annual Estimated Burden: 1,500 hours.

Addressee: Send comments regarding these information collections to the Office of Information and Regulatory Affairs, Office of Management and Budget, 725 Seventeenth Street, NW., Washington, DC 20503; Attention: FRA Desk Officer. Comments may also be sent via e-mail to the Office of Information and Regulatory Affairs (OIRA) of the Office of Management and Budget at the following address: oira_submissions@omb.eop.gov.

Comments are invited on the following: Whether the proposed collections of information are necessary for the proper performance of the functions of FRA, including whether the information will have practical utility; the accuracy of FRA's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC on December 3, 2008.
Martin J. Eble,
Acting Director, Office of Financial Management, Federal Railroad Administration.

[FR Doc. E8-29036 Filed 12-9-08; 8:45 am]

BILLING CODE 4910-06-P